ENVIRONMENTAL PROTECTION AGENCY

40 CFR Parts 435

[FRL-6581-1]

Effluent Limitations Guidelines for the Oil and Gas Extraction Point Source Category; Announcement of Meeting

AGENCY: Environmental Protection Agency (EPA).

ACTION: Announcement of meeting.

SUMMARY: EPA will conduct a public meeting on the upcoming Synthetic-based Drilling Fluids (SBFs) rulemaking on Tuesday, April 25, 2000, from 1 p.m. to 5:30 p.m. Central Standard Time.

The Office of Science and Technology within EPA's Office of Water is holding the public meeting to inform all interested parties of the current status of the SBF effluent guideline. EPA intends to finalize effluent limitations guidelines and standards regarding these fluids (used in the oil and gas extraction industrial category) in December 2000. EPA plans to publish a Notice of Data Availability for this rulemaking very shortly. At the meeting on April 25, EPA will report on the status of the rulemaking; new data submissions available for public comment; revised economic and engineering models and results incorporating the new data; descriptions of “best management practices” (BMPs) as potential alternative requirements to reduce the discharges of toxic and hazardous pollutants; and paperwork requirements associated with implementation of the BMP alternative compliance methods. EPA will use this meeting to solicit public comment on any of the issues or information presented in the notice of data availability and in the administrative record supporting the notice.

DATES: EPA will conduct the SBF public meeting on Tuesday, April 25, 2000, from 1 p.m. to 5:30 p.m. Central Standard Time.

ADDRESSES: The SBF public meeting will be held at the Minerals Management Service (MMS), Gulf of Mexico OCS Region Office, Room 111, 1201 Elmwood Park Boulevard, New Orleans, LA, 70123-2394.

FOR FURTHER INFORMATION CONTACT: Mr. Carey A. Johnston, Office of Water (4303), 1200 Pennsylvania Avenue, NW, Washington, DC 20460; telephone (202) 260-7186; e-mail address: johnston.carey@epa.gov.

SUPPLEMENTARY INFORMATION: On February 3, 1999 (64 FR 5488), EPA proposed technology-based effluent limitations guidelines and standards under the Clean Water Act (33 U.S.C. 1251 et seq.) for the discharge of pollutants from oil and gas drilling operations associated with the use of SBFs and other non-aqueous drilling fluids into waters of the United States. This proposed rule applies to certain existing and new facilities in the offshore subcategory (i.e., facilities seaward of the inner territorial boundary) and the Cook Inlet, Alaska, portion of the coastal subcategory of the oil and gas extraction point source category.

The SBF meeting on April 25, 2000 is open to the public, and limited seating for the public is available on a first-come, first-served basis. For information on the location, see the Addresses section above. Visitors attending the SBF public meeting will need to sign in at the MMS guard booth and obtain a visitors badge.

If you wish to present formal comments at the public meeting you should have a written copy for submittal. No meeting materials will be distributed in advance of the public meeting; all materials will be distributed at the meeting. Limited teleconferencing capability will be available for the meeting. Persons wishing to participate via telephone or who have special audio-visual needs should contact Mr. Carey A. Johnston, (202) 260-7186. For those unable to attend the meeting, a document summary will be available following the meeting and can be obtained by an e-mail or telephone request to Mr. Carey A. Johnston at the above address.

Dated: April 12, 2000.
James Hanlon,
Acting Director, Office of Science and Technology.

[FR Doc. 00-9656 Filed 4-17-00; 8:45 am]

BILLING CODE 6560-50-P